DEPARTMENT OF AGRICULTURE

Animal and Plant Health Inspection Service

[Docket No. APHIS-2018-0075]

Notice of Availability of an Environmental Assessment for the Release of Biological Control of Brazilian Peppertree

AGENCY: Animal and Plant Health Inspection Service, USDA.

ACTION: Notice of availability.

SUMMARY: We are advising the public that the Animal and Plant Health Inspection Service has prepared an environmental assessment relative to permitting the release of Calophya latiforceps and Pseudophilothrips ichini for the biological control of Brazilian peppertree, a significant invasive weed, within the contiguous United States. Based on the environmental assessment and other relevant data, we have reached a preliminary determination that the release of these control agents will not have a significant impact on the quality of the human environment. We are making the environmental assessment available to the public for review and comment.

DATES: We will consider all comments that we receive on or before March 29, 2019.

ADDRESSES: You may submit comments by either of the following methods:

• Federal eRulemaking Portal: Go to http://www.regulations.gov/#!docketDetail;D=APHIS-2018-0075.

• Postal Mail/Commercial Delivery: Send your comment to Docket No. APHIS-2018-0075, Regulatory Analysis and Development, PPD, APHIS, Station 3A-03.8, 4700 River Road, Unit 118, Riverdale, MD 20737-1238.

Supporting documents and any comments we receive on this docket may be viewed at http://www.regulations.gov/#!docketDetail;D=APHIS-2018-0075 or in our reading room, which is located in Room 1141 of the USDA South Building, 14th Street and Independence Avenue SW, Washington, DC. Normal reading room hours are 8 a.m. to 4:30 p.m., Monday through Friday, except holidays. To be sure someone is there to help you, please call (202) 7997039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327, email: Colin.Stewart@aphis.usda.gov.

SUPPLEMENTARY INFORMATION: Brazilian peppertree (Schinus terebinthifolia) is an evergreen perennial shrub or small tree found in various southern States but grows primarily in Florida. This noxious weed poses a serious threat to biodiversity in many ecosystems and invades areas such as canal banks, fallow farmlands, and natural communities. Brazilian peppertree's invasiveness can be attributed to its tolerance to fire, drought, and shade. Since the late 1800s, Brazilian peppertree has been introduced as an ornamental plant into many tropical and subtropical regions around the world. Brazilian peppertree was introduced in Florida and Hawaii as an attractive ornamental and source for honeybee nectar. The dried fruits of Brazilian peppertree have been used as a spice for cooking and are sold in the United States and elsewhere. In the United States, Brazilian peppertree occurs in Florida, Texas, California, Hawaii, the Commonwealth of Puerto Rico, and the U.S. Virgin Islands.

The insects Calophya latiforceps, “jumping plant-lice,” and Pseudophilothrips ichini were chosen as potential biological control agents. Both agents are expected to reduce the severity of infestations of Brazilian peppertree, and both are known to be highly host specific due to their intimate relationships with their host plants.

The Animal and Plant Health Inspection Service's (APHIS') review and analysis of the potential environmental impacts associated with the proposed release are documented in detail in an environmental assessment (EA) entitled “Field Release of the Insects Calophya latiforceps (Hemiptera: Calophyidae) and Pseudophilothrips ichini (Thysanoptera: Phlaeothripidae) for Classical Biological Control of Brazilian Peppertree in the Contiguous United States” (January 2018). We are making the EA available to the public for review and comment. We will consider all comments that we receive on or before the date listed under the heading DATES at the beginning of this notice.

The EA may be viewed on the Regulations.gov website or in our reading room (see ADDRESSES above for a link to Regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 21st day of February 2019.
Kevin Shea,
Administrator, Animal and Plant Health Inspection Service.

[FR Doc. 2019-03322 Filed 2-26-19; 8:45 am]

BILLING CODE 3410-34-P